DEPARTMENT OF COMMERCE

Bureau of Industry and Security

Agency Information Collection Activities; Submission to the Office of Management and Budget (OMB) for Review and Approval; Comment Request; Rated Orders Under the Defense Priories and Allocations System (DPAS)

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on September 11, 2023, during a 60-day comment period. This notice allows for an additional 30 days for public comments.

Agency: Bureau of Industry and Security, Commerce.

Title: Rated Orders Under the Defense Priories and Allocations System (DPAS).

OMB Control Number: 0694-0092.

Form Number(s): None.

Type of Request: Extension of a current information collection.

Number of Respondents: 1,436,538.

Average Hours per Response: 1 to 16 minutes.

Burden Hours: 45,432.

Needs and Uses: This information is necessary to support the execution of the President's priorities and allocations authority under the Defense Production Act of 1950 (DPA), as amended (50 U.S.C. 4501, et seq.), and the priorities authorities under the Selective Service Act of 1948 (50 U.S.C. 3816), delegated to the Secretary of Commerce and implemented by the Defense Priorities and Allocations System (DPAS) regulation (15 CFR part 700). The purpose of this authority is to ensure preferential acceptance and priority performance of contracts and orders for all materials, services, and facilities, including construction materials, the authority for which has not been delegated to other agencies under Executive Order 13603 (referred to as “industrial resources”) in support of approved national defense programs.

Affected Public: Business or other for-profit organizations.

Frequency: On Occasion.

Respondent's Obligation: Mandatory.

Legal Authority: Defense Protection Act of 1950 (DPA).

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0694-0092.

Sheleen Dumas,
Department PRA Clearance Officer, Office of the Under Secretary for Economic Affairs, Commerce Department.

[FR Doc. 2024-00359 Filed 1-9-24; 8:45 am]

BILLING CODE 3510-33-P